DEPARTMENT OF TRANSPORTATION

Federal Aviation Administration

Office of Commercial Space Transportation: Notice of Availability of the Final Environmental Assessment and Finding of No Significant Impact for SpaceX Falcon Launches at Kennedy Space Center and Cape Canaveral Air Force Station

AGENCY: Federal Aviation Administration, DOT.

ACTION: Notice of availability.

SUMMARY: In accordance with the National Environmental Policy Act of 1969, as amended (NEPA), Council on Environmental Quality NEPA implementing regulations, and FAA Order 1050.1F, Environmental Impacts: Policies and Procedures, the FAA is announcing the availability of the Final Environmental Assessment and Finding of No Significant Impact for SpaceX Falcon Launches at Kennedy Space Center and Cape Canaveral Air Force Station (Final EA and FONSI).

FOR FURTHER INFORMATION CONTACT: Daniel Czelusniak, Environmental Protection Specialist, Federal Aviation Administration, 800 Independence Avenue SW, Suite 325, Washington, DC 20591; phone (202) 267-5924; email Daniel.Czelusniak@faa.gov.

SUPPLEMENTARY INFORMATION: SpaceX is applying to the FAA for launch licenses to launch the Falcon 9 and Falcon Heavy from Kennedy Space Center's (KSC) Launch Complex 39A (LC-39A) and Cape Canaveral Air Force Station's (CCAFS) Launch Complex 40 (LC-40). SpaceX is also applying to the FAA for reentry licenses for Dragon reentry operations. The FAA's proposal to issue licenses to SpaceX is considered a major federal action subject to environmental review under NEPA. Due to SpaceX's ability to launch more frequently at KSC and CCAFS, SpaceX's launch manifest includes more annual Falcon launches and Dragon reentries than were considered in previous NEPA analyses. Also, SpaceX is proposing to add a new Falcon 9 southern launch trajectory from Florida for payloads requiring polar orbits. SpaceX is also proposing to construct a mobile service tower (MST) at LC-39A to support commercial launches and the U.S. Air Force's National Security Space Launch program. NASA is responsible for approving the construction of the MST at LC-39A. The FAA has no federal action related to the construction of the MST.

The Final EA evaluated the potential environmental impacts of the Proposed Action and the No Action Alternative. Under the No Action Alternative, the FAA would not modify existing SpaceX licenses or issue new licenses to SpaceX for Falcon launches or Dragon reentry operations at KSC and CCAFS. SpaceX would continue Falcon 9 and Falcon Heavy launch operations at KSC and CCAFS, as well as Dragon reentry operations, as analyzed in previous NEPA and environmental reviews and in accordance with existing FAA licenses until the licenses expire.

The FAA published a Draft EA for public comment on February 27, 2020. The FAA received six public comment submissions. The FAA has posted the Final EA and FONSI on the FAA Office of Commercial Space Transportation website: https://www.faa.gov/space/environmental/nepa_docs/.

Issued in Washington, DC on: July 10, 2020.
Daniel Murray,
Manager, Safety Authorization Division.

[FR Doc. 2020-16428 Filed 7-28-20; 8:45 am]

BILLING CODE 4910-13-P